DEPARTMENT OF HEALTH AND HUMAN SERVICES

Centers for Disease Control and Prevention

[30Day-06-05CW]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Online Surveys to Measure Awareness of Chronic Fatigue Syndrome and the CDC Chronic Fatigue Syndrome Public Awareness Campaign—New—National Center for Health Marketing (NCHM), Centers for Disease Control and Prevention (CDC).

Background and Brief Description

Chronic fatigue syndrome (CFS) is a serious illness that affects many Americans. With as many as 900,000 cases, many of which are misdiagnosed or left undiagnosed, the need for a CFS public education and awareness campaign is crucial.

Research shows that 80 to 90 percent of patients have not been diagnosed and are not receiving proper medical care. Lack of awareness and information among health care providers about CFS as a serious and treatable illness has created significant barriers to diagnosing and treating those who suffer from CFS.

Congress recognized the need to change this scenario, as reported in the Committee Reports for the Senate Appropriations Committee (Senate Report 108-345—To accompany S. 2810 Sept. 15, 2004) when the committee stated:

Further, the Committee encourages CDC to better inform the public about this condition, its severity and magnitude and to use heightened awareness to create a registry of CFS patients to aid research in this field.

During the next three years, CDC, in partnership with the Chronic Fatigue and Immune Dysfunction Syndrome (CFIDS) Association of America, will build the case that chronic fatigue syndrome should be diagnosed quickly to ensure the best possible health outcomes.

To do so, a public education and awareness campaign will be launched to bring about changes in beliefs and social norms among target audiences (women aged 40-60, healthcare practitioners, and the general public) that CFS is a diagnosable and treatable physical illness.

Although considerable research will be done to ensure that campaign themes, messages, and materials are effective, there is no way to test the impact of the campaign on the target audience other than to conduct baseline and follow-up surveys. These surveys will measure not only the level of awareness created by the campaign, but will measure change in key knowledge, attitudes and beliefs about CFS among the target audiences.

There are no costs to respondents other than their time. The total estimated annualized burden hours are 88.

Estimated Annualized Burden Table
Type of respondents | Form name | Number of respondents | Number of responses per respondent | Average burden/ response (in hours)
Consumers (Women, 40-60 years of age) | Pre-program survey | 133 | 1 | 10/60
Consumers (Women, 40-60 years of age) | Post-program survey | 133 | 1 | 10/60
Physician Assistants | Pre-program survey | 67 | 1 | 10/60
Physician Assistants | Post-program survey | 67 | 1 | 10/60
Nurse Practitioners | Pre-program survey | 67 | 1 | 10/60
Nurse Practitioners | Post-program survey | 67 | 1 | 10/60

Dated: February 10, 2006.
Betsey Dunaway,
Acting Reports Clearance Officer, Centers for Disease Control and Prevention.

[FR Doc. E6-2320 Filed 2-16-06; 8:45 am]

BILLING CODE 4163-18-P